NATIONAL AERONAUTICS AND SPACE ADMINISTRATION

[Notice (10-060)]

NASA Advisory Council; Commercial Space Committee; Meeting

AGENCY: National Aeronautics and Space Administration.

ACTION: Notice of meeting.

SUMMARY: In accordance with the Federal Advisory Committee Act, Public Law 92-463, as amended, the National Aeronautics and Space Administration announces a meeting of the Commercial Space Committee of the NASA Advisory Council.

DATES: Thursday, June 17, 2010, 1 p.m.-4 p.m., EDST.

ADDRESSES: NASA Headquarters, 300 E Street, SW., MIC 3-A/3H46-A, Washington, DC 20546.

FOR FURTHER INFORMATION CONTACT: Mr. John Emond, Innovative Partnerships Program, Office of Chief Technologist, National Aeronautics and Space Administration, Washington, DC 20546. Phone 202-358-1686, fax: 202-358-3878, john.l.emond@nasa.gov.

SUPPLEMENTARY INFORMATION: The meeting will be a deliberation by the committee on commercial crew and commercial cargo development, incorporating in the deliberation the presentations the committee received over the past three committee meetings. The meeting will be open to the public up to the seating capacity of the room. It is imperative that the meeting be held on this date to accommodate the scheduling priorities of the key participants. Visitors will need to show a valid picture identification such as a driver's license to enter the NASA Headquarters building (West Lobby—Visitor Control Center), and must state that they are attending the NASA Advisory Council Commercial Space Committee meeting in MIC3. All non-U.S citizens must fax a copy of their passport, and print or type their name, current address, citizenship, company affiliation (if applicable) to include address, telephone number, and their title, place of birth, date of birth, U.S. visa information to include type, number, and expiration date, U.S. Social Security Number (if applicable), and place and date of entry into the U.S. fax to John Emond, NASA Advisory Council, Commercial Space Committee Executive Secretary, Fax: (202) 358-3878, by no later than Thursday June 10, 2010. To expedite admittance, attendees with U.S. citizenship can provide identifying information 3 working days in advance by contacting John Emond via e-mail at john.l.emond@nasa.gov or by telephone at (202) 358-1686 or fax: (202) 358-3878.

Dated: May 18, 2010.
P. Diane Rausch,
Advisory Committee Management Officer, National Aeronautics and Space Administration.

[FR Doc. 2010-12315 Filed 5-21-10; 8:45 am]

BILLING CODE P